DEPARTMENT OF DEFENSE

Office of the Secretary

Federal Advisory Committee; Defense Health Board (DHB) Meeting

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, the Defense Health Board (DHB) is scheduled to meet on July 14, 2010, in Bethesda, MD.

DATES: The meeting will be held on July 14, 2010, from 8 a.m. to 1 p.m. (see the Agenda for further details).

The administrative working meetings from 8 a.m. to 8:30 a.m. and from 11:30 a.m. to 12:30 p.m. are closed to the public.

Subject to the availability of space, the meetings from 9 a.m. to 11:30 a.m. and from 12:30 p.m. to 1 p.m. are open to the public.

ADDRESSES: The meeting will be held at the Bethesda Marriott, 5151 Pooks Hill Road, Bethesda, Maryland 20814.

FOR FURTHER INFORMATION CONTACT: Commander Edmond F. Feeks, Executive Secretary, Defense Health Board, Five Skyline Place, 5111 Leesburg Pike, Suite 810, Falls Church, Virginia 22041-3206, (703) 681-8448, ext. 1228, Fax: (703) 681-3317, edmond.feeks@tma.osd.mil.

SUPPLEMENTARY INFORMATION:

Purpose of the Meeting

The purpose of the meeting is to address and deliberate pending Board issues and provide briefings for Board members on topics related to ongoing Board business.

Agenda

July 14, 2010

8 a.m.-8:30 a.m. (Closed, Administrative Working Meeting).

8:30 a.m.-9 a.m. (Attendee and Public Registration).

9 a.m.-11:30 a.m. (Open Session).

11:30 a.m.-12:30 p.m. (Closed, Administrative Working Meeting).

12:30 p.m.-1 p.m. (Open Session).

Pursuant to 5 U.S.C. 552b, as amended, and 41 CFR 102-3.140 through 102-3.165 and subject to the availability of space, the meetings from 9 a.m. to 11:30 a.m. and from 12:30 p.m. to 1 p.m. are open to the public.

The Board will receive an information brief and deliberate the findings and recommendations of the Department of Defense Task Force on the Prevention of Suicide by Members of the Armed Forces. The Board will also receive an information brief from the Trauma and Injury Subcommittee on the Joint Theater Trauma System.

Additional information, agenda updates, and meeting registration are available online at the Defense Health Board Web site, http://www.health.mil/dhb/default.cfm. The public is encouraged to register for the meeting.

Written Statements

Any member of the public wishing to provide input to the Defense Health Board should submit a written statement in accordance with 41 CFR 102-3.140(c) and section 10(a)(3) of the Federal Advisory Committee Act, and the procedures described in this notice. Written statements must address the following detail: The issue, discussion, and a recommended course of action. Supporting documentation may also be included as needed to establish the appropriate historical context and to provide any necessary background information.

Individuals desiring to submit a written statement may do so through the Board's Designated Federal Officer (see FOR FURTHER INFORMATION CONTACT). If the written statement is not received at least 10 calendar days prior to the meeting, which is subject to this notice, then it may not be provided to or considered by the Defense Health Board until the next open meeting.

The Designated Federal Officer will review all timely submissions with the Defense Health Board Chairperson, and ensure they are provided to members of the Defense Health Board before the meeting that is subject to this notice. After reviewing the written comments, the Chairperson and the Designated Federal Officer may choose to invite the submitter of the comments to orally present their issue during an open portion of this meeting or at a future meeting.

The Designated Federal Officer, in consultation with the Defense Health Board Chairperson, may, if desired, allot a specific amount of time for members of the public to present their issues for review and discussion by the Defense Health Board.

Written statements may be mailed to the address under FOR FURTHER INFORMATION CONTACT, e-mailed to dhb@ha.osd.mil or faxed to (703) 681-3317.

Special Accommodations

If special accommodations are required to attend (sign language, wheelchair accessibility), please contact Ms. Lisa Jarrett at (703) 681-8448 ext. 1280 by June 30, 2010.

Dated: June 2, 2010.
Mitchell S. Bryman,
Alternate OSD Federal Register Liaison Officer, Department of Defense.

[FR Doc. 2010-13531 Filed 6-4-10; 8:45 am]

BILLING CODE 5001-06-P